DEPARTMENT OF COMMERCE

National Oceanic and Atmospheric Administration

[I.D. 121902D]

Proposed Information Collection; Comment Request; Highly Migratory Species Tournament Registration and Reporting

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before February 25, 2003.

ADDRESSES: Direct all written comments to Diana Hynek, Departmental Paperwork Clearance Officer, Department of Commerce, Room 6625, 14th and Constitution Avenue NW, Washington DC 20230 (or via Internet at dHynek@doc.gov).

FOR FURTHER INFORMATION CONTACT: Requests for additional information or copies of the information collection instrument and instructions should be directed to Christopher Rogers, Chief, Highly Migratory Species Management Division (F/SF1), Office of Sustainable Fisheries, National Marine Fisheries Service (NMFS), 1315 East-West Highway, Silver Spring, MD 20910; (301) 713-2347.

SUPPLEMENTARY INFORMATION:

I. Abstract

NMFS would require that operators of fishing tournaments involving Highly Migratory Species (HMS) provide advance identification of the tournament and then provide information after the tournament on the HMS that are caught, whether they were kept or released, the length and weight of the fish, and other information. Most of the data required for post-tournament reporting are already collected in the routine course of tournament operations. The data collected are needed by NMFS to estimate the total annual catch of these species and to evaluate the impact of tournament fishing in relation to other types of fishing.

II. Method of Collection

There are two required reporting forms, one to register a tournament and another to provide a summary report the results of the tournament. Completed forms are mailed to NMFS.

III. Data

OMB Number: 0648-0323.

Form Number: None.

Type of Review: Regular submission.

Affected Public: Business or other for-profit organizations, and not-for-profit institutions.

Estimated Number of Respondents: 300.

Estimated Time Per Response: 2 minutes for a registration form; and 20 minutes for a tournament summary report.

Estimated Total Annual Burden Hours: 110.

Estimated Total Annual Cost to Public: $108.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 19, 2002.
Gwellnar Banks,
Management Analyst, Office of the Chief Information Officer.

[FR Doc. 02-32621 Filed 12-26-02; 8:45 am]

BILLING CODE 3510-22-S